COMMISSION ON CIVIL RIGHTS

Agenda and Notice of Public Meeting of the Vermont Advisory Committee

Notice is hereby given, pursuant to the provisions of the rules and regulations of the U.S. Commission on Civil Rights, that a meeting of the Vermont Advisory Committee to the Commission will convene at 12:00 p.m. and adjourn at 4:30 p.m. on Tuesday, August 29, 2000, at the Gifford Medical Center, East Conference Room, 1st Floor, 44 S. Main Street, Randolph, Vermont 05060. The Advisory Committee will hold a planning meeting with invited guests to discuss the status of legislative and community organization initiatives to combat harassment, plan future coordination with educational leaders, and develop its next project activity.

Persons desiring additional information, or planning a presentation to the Committee, should contact Marc Pentino, Civil Rights Analyst of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, July 31, 2000.
Lisa M. Kelly,
Special Assistant to the Staff Director, Regional Programs Coordination Unit.

[FR Doc. 00-19997 Filed 8-7-00; 8:45 am]

BILLING CODE 6335-01-P